OFFICE OF PERSONNEL MANAGEMENT

Submission for OMB Review: Comment Request for A Revised Information Collection: OPM Online Form 1417

AGENCY: Office of Personnel Management.

ACTION: Notice.

SUMMARY: In accordance with the Paperwork Reduction Act of 1995 (Pub. L. 104-13, May 22, 1995), this notice announces that the Office of Personnel Management has submitted to the Office of Management and Budget a request for a revised information collection. Online OPM Form 1417, Combined Federal Campaign Results Form, is used to collect information from the 320 local CFC's around the country to verify campaign results. Revisions to the form clarify OPM's request for budgeted campaign costs and provide the ability to create a printer friendly copy of the report.

We estimate 320 Online OPM Forms 1417 are completed annually. Each form takes approximately 20 minutes to complete. The annual estimated burden is 107 hours.

For copies of this proposal, contact Mary Beth Smith-Toomey on (202) 606-8358, FAX (202) 418-3251 or e-mail to mbtoomey@opm.gov. Please be sure to include a mailing address with your request.

DATES: Comments on this proposal should be received within 30 calendar days from the date of this publication.

ADDRESSES: Send or deliver comments to—Cherlynn Stevens, CFC Operations Specialist, Office of CFC Operations, U.S. Office of Personnel Management, 1900 E Street, NW., Room 5450, Washington, DC 20415; and Joseph F. Lackey, OPM Desk Officer, Office of Information & Regulatory Affairs, Office of Management and Budget, New Executive Office Building, NW., Room 10235, Washington, DC 20503.

U.S. Office of Personnel Management.
Dan G. Blair,
Acting Director.

[FR Doc. 05-4902 Filed 3-11-05; 8:45 am]

BILLING CODE 6325-46-P